DEPARTMENT OF JUSTICE

Notice of Lodging of a Consent Decree Under the Resource Conservation and Recovery Act

In accordance with Departmental policy, 28 CFR 50.7, notice is hereby given that on May 7, 2004, a proposed Consent Decree in United States of America v. Heartland Cement Company, Inc., and Rineco Inc., Civil Action No. 04-1144-JTM, was lodged with the United States District Court for the District of Kansas.

The Complaint, which was filed by the United States on behalf of the Environmental Protection Agency, alleges that Heartland Cement Company, Inc., and Rineco Inc., violated regulations promulgated under the Resource Conservation and Recovery Act at Heartland's cement manufacturing facility in Independence, Kansas. Specifically, the Complaint alleges that hazardous waste at the facility was not properly characterized; three waste containers were not completely closed; the lining of the secondary containment around a waste tank had holes; and several pieces of equipment lack tags or other identifying marks. The Complaint seeks the imposition of a civil penalty. The Consent Decree requires the defendants to pay a civil penalty in the amount of $111,668.00.

The Department of Justice will receive for a period of thirty (30 days from the date of this publication comments relating to the Consent Decree. Comments should be addressed to the Assistant Attorney General, Environment and Natural Resources Division, P.O. Box 7611, U.S. Department of Justice, Washington, DC 20044-7611, and should refer to United States v. Heartland Cement Co., Inc. and Rhineco Inc., D.J. Ref. No. 90-7-1-06933.

The Consent Decree may be examined at the Office of the United States Attorney, 301 N. Main St., Suite 1200, Wichita, Kansas 67202, and at U.S. EPA Region 7, 901 N. 5th St., Kansas City, Kansas 66101. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Robert E. Maher, Jr.,
Assistant Chief, Environment Enforcement Section, Environment and Natural Resources Division.

[FR Doc. 04-11952 Filed 5-26-04; 8:45 am]

BILLING CODE 4410-15-M